OFFICE OF THE UNITED STATES TRADE REPRESENTATIVE

Free Trade Agreements; Invitation for Applications for Inclusion on the Dominican Republic-Central America-United States Free Trade Agreement Dispute Settlement Rosters

AGENCY: Office of the United States Trade Representative (“USTR”).

ACTION: Invitation for applications.

SUMMARY: The Dominican Republic-Central America-United States Free Trade Agreement (“CAFTA-DR” or “Agreement”) requires the establishment of four rosters of individuals that would be available to serve as panelists in dispute settlement proceedings arising under the Agreement. A general roster is required to be established under Chapter Twenty (Dispute Settlement). Chapter Twelve (Financial Services), Chapter Sixteen (Labor), and Chapter Seventeen (Environment) require the establishment of separate rosters for disputes arising under those chapters.

DATES: Applications should be received no later than May 13, 2009.

ADDRESSES: Applications should be submitted electronically to http://www.regulations.gov, docket number USTR-2008-0040. If you are unable to provide submissions by http://www.regulations.gov, please contact Sandy McKinzy at (202) 395-9483 to arrange for an alternative method of transmission.

FOR FURTHER INFORMATION CONTACT: For information regarding the form of the application, contact Sandy McKinzy, Legal Technician, USTR Office of Monitoring and Enforcement, at (202) 395-3582. For other inquiries, contact Priti Seksaria Agrawal, Associate General Counsel, at (202) 395-3150.

SUPPLEMENTARY INFORMATION:

Dispute Settlement Under the Dominican Republic-Central America-United States Free Trade Agreement

The CAFTA-DR is a plurilateral agreement in force between the United States, Costa Rica, the Dominican Republic, El Salvador, Guatemala, Honduras, and Nicaragua (“CAFTA-DR Parties”). The CAFTA-DR sets out detailed procedures for the resolution of disputes arising under the Agreement. Dispute settlement involves three stages: (1) Lower level consultations between the disputing CAFTA-DR Parties to try to arrive at a mutually satisfactory resolution of the matter; (2) cabinet-level consultations between the disputing CAFTA-DR Parties; and, (3) resort to a neutral panel to make a determination regarding the matter at issue between the disputing CAFTA-DR Parties. The panel is composed of three individuals chosen by the disputing CAFTA-DR Parties.

The CAFTA-DR requires the establishment of a general dispute settlement roster from which panelists shall normally be selected. The roster is to be composed of up to 70 individuals, up to 14 of whom are to be individuals who are not a national of any CAFTA-DR Party. Once established, the roster remains in effect for a minimum of three years. See CAFTA-DR Article 20.7. The CAFTA-DR also requires the establishment of three additional rosters, one each for disputes arising under Chapter Twelve (Financial Services), Chapter Sixteen (Labor), and Chapter Seventeen (Environment). Each of these three rosters shall remain in effect for a minimum of three years and is to be composed of up to 28 individuals, up to seven of whom are to be individuals who are not a national of any CAFTA-DR Party. See CAFTA-DR Articles 12.18, 16.7, and 17.11.

Upon each request for establishment of a panel, potential panelists may be requested to complete a disclosure form, which could be used to identify possible conflicts of interest or appearances thereof. The disclosure form may request information regarding financial interests and affiliations, including information regarding the identity of clients of the potential panelist and, if applicable, clients of the potential panelist's firm.

The text of the CAFTA-DR can be found through the Office of the U.S. Trade Representative Web site (http://www.ustr.gov).

Criteria for Eligibility for Inclusion on a CAFTA-DR Roster

To qualify for inclusion on the general roster an applicant must: (1) Have expertise or experience in law, international trade, other matters covered by the Agreement, or the resolution of disputes arising under international trade agreements; (2) be objective, reliable, and possess sound judgment; (3) be independent of, and not be affiliated with or take instructions from any CAFTA-DR Party; and (4) comply with a code of conduct.

To qualify for inclusion on the financial services roster an applicant must have expertise or experience in financial services law or practice, which may include the regulation of financial institutions, and meet the qualifications set out in (2) through (4) above.

To qualify for inclusion on the labor roster an applicant must have expertise or experience in labor law or its enforcement, international trade, or the resolution of disputes arising under international agreements, and meet the qualifications set out in (2) through (4) above.

To qualify for inclusion on the environment roster an applicant must have expertise or experience in environmental law or its enforcement, international trade, or the resolution of disputes arising under international trade or environmental agreements, and meet the qualifications set out in (2) through (4) above.

The United States seeks applications for inclusion on the rosters from qualified persons, including persons who are not a national of the United States or another CAFTA-DR Party.

Procedures for Selection of Roster Members

An interagency committee chaired by USTR prepares a preliminary list of candidates eligible for inclusion on the various rosters. After consultation with the Committee on Ways and Means of the House of Representatives and the Committee on Finance of the Senate, USTR selects the final list of individuals that the United States will nominate for inclusion on the rosters. Roster members are appointed by consensus of the CAFTA-DR Parties for terms of three years, and may be reappointed.

Applications

Eligible individuals who wish to be considered for inclusion on one or more of the CAFTA-DR rosters are invited to submit applications. Persons submitting applications should submit one copy electronically to http://www.regulations.gov, docket number USTR-2008-0040. If you are unable to provide submissions by http://www.regulations.gov, please contact Sandy McKinzy at (202) 395-9483 to arrange for an alternative method of transmission.

Applications must be typewritten, and should be headed “Application for Inclusion on a CAFTA-DR Roster.” Applicants must specify for which of the four rosters they wish to be considered: General, Financial Services, Labor, or Environment. Applicants may specify more than one roster. Applications should include the following information, and each section of the application should be numbered as indicated:

1. Name of the applicant.

2. Business address, telephone number, fax number, and e-mail address.

3. Citizenship(s).

4. Current employment, including title, description of responsibility, and name and address of employer.

5. Relevant education and professional training.

6. Spanish language fluency, written and spoken.

7. Post-education employment history, including the dates and addresses of each prior position and a summary of responsibilities.

8. Relevant professional affiliations and certifications, including, if any, current bar memberships in good standing.

9. A list and copies of publications, testimony, and speeches, if any, concerning the relevant area of expertise. Judges or former judges should list relevant judicial decisions. Only one copy of publications, testimony, speeches, and decisions need be submitted.

10. A list of international trade proceedings or domestic proceedings relating to international trade matters or other relevant matters in which the applicant has provided advice to a party or otherwise participated.

11. Summary of any current and past employment by, or consulting or other work for, the Governments of Costa Rica, the Dominican Republic, El Salvador, Guatemala, Honduras, Nicaragua, or the United States.

12. The names and nationalities of all foreign principals for whom the applicant is currently or has previously been registered pursuant to the Foreign Agents Registration Act, 22 U.S.C. 611 et seq., and the dates of all registration periods.

13. A short statement of qualifications and availability for service on CAFTA-DR dispute settlement panels, including information relevant to the applicant's familiarity with international trade law and relevant area(s) for the roster(s) for which the applicant seeks to be considered, and willingness and ability to make time commitments necessary for service on panels.

14. On a separate page, the names, addresses, telephone and fax numbers of three individuals willing to provide information concerning the applicant's qualifications for service, including the applicant's character, reputation, reliability, judgment, and familiarity with the relevant area of expertise.

Public Disclosure

Applications normally will not be subject to public disclosure and will not be posted publicly on www.regulations.gov. Applications may be shared with other agencies, the Committee on Ways and Means of the House of Representatives, the Committee on Finance of the Senate, and the Governments of the other CAFTA-DR Parties for their consideration in determining whether to appoint persons to the rosters.

False Statements

False statements by an applicant regarding his or her personal or professional qualifications, or financial or other relevant interests that bear on the applicant's suitability for placement on a roster or appointment to a panel are subject to criminal sanctions under 18 U.S.C. 1001.

Paperwork Reduction Act

This notice contains a collection of information provision subject to the Paperwork Reduction Act (“PRA”) that has been approved by the Office of Management and Budget (“OMB”). Notwithstanding any other provision of law, no person is required to respond to nor shall a person be subject to a penalty for failure to comply with a collection of information subject to the requirements of the PRA unless that collection of information displays a currently valid OMB number. This notice's collection of information burden is only for those persons who wish voluntarily to apply for inclusion on a CAFTA-DR roster. It is expected that the collection of information burden will be under three hours. This collection of information contains no annual reporting or record keeping burden. This collection of information was approved by OMB under OMB Control Number 0350-0014. Please send comments regarding the collection of information burden or any other aspect of the information collection to USTR at http://www.regulations.gov.

Privacy Act

The following statements are made in accordance with the Privacy Act of 1974, as amended (5 U.S.C. 552a). Provision of the information requested above is voluntary; however, failure to provide the information will preclude consideration as a candidate for inclusion on a CAFTA-DR roster. This information is maintained in a system of records entitled “Dispute Settlement Panelists Roster.” Notice regarding this system of records was published in the Federal Register on November 30, 2001. The information provided is needed, and will be used by USTR, other Federal government trade policy officials concerned with dispute settlement under the CAFTA-DR, and officials of the other CAFTA-DR Parties to select well-qualified individuals for inclusion on the CAFTA-DR rosters and for service on CAFTA-DR dispute settlement panels.

Daniel E. Brinza,
Assistant United States Trade Representative for Monitoring and Enforcement.

[FR Doc. E9-8321 Filed 4-10-09; 8:45 am]

BILLING CODE 3190-W9-P